DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Co-Location and Integration of HIV Prevention and Medical Care Into Behavioral Health Program-Revision

The Substance Abuse and Mental Health Services Administration's (SAMHSA) Center for Mental Health Services, (CMHS), Center for Substance Abuse Prevention (CSAP), Center for Substance Abuse Treatment (CSAT) are requesting approval from the Office of Management and Budget (OMB) for revised data collection activities associated with their Co-location and Integration of HIV Prevention and Medical Care into Behavioral Health Program.

This information collection is needed to provide SAMHSA with objective information to document the reach and impact of services funded to address HIV and Hepatitis in the context of substance use disorders and mental illness. The information will be used to monitor quality assurance and quality performance outcomes for organizations funded by its grant programs. Collection of the information included in this request is authorized by Section 505 of the Public Health Service Act (42 U.S.C. 290aa-4)—Data Collection.

Further support for this collection was provided in the 2013 Senate Appropriations Report 113-71. The report urged SAMHSA to “focus its efforts on building capacity and outreach to individuals at risk or with a primary substance abuse disorder and to improve efforts to identify such individuals to prevent the spread of HIV.” Additional support for this data collection effort is provided by the 2013 National HIV/AIDS Strategy which instructed SAMHSA to “support and rigorously evaluate the development and implementation of new integrated behavioral health models to address the intersection of substance use, mental health, and HIV.”

The table below reflects the revised annualized hourly burden.

Instrument | Number of respondents | Number of responses per respondent | Total number of responses | Hours per response per respondent | Total burden hours
RHHT Testing Form: |  |  |  |  |
Co-Located and Integrated Care Program (CMHS, CSAT, CSAP) | 5,000 | 1 | 5,000 | 0.13 | 650
Targeted Capacity Expansion: Substance Use Disorder Treatment for Racial/Ethnic Minority Populations at High-Risk for HIV/AIDS CSAT RFA: TI-15-006 | 5,000 | 1 | 5,000 | 0.13 | 650
Targeted Capacity Expansion: Substance Abuse Treatment for Racial/Ethnic Minority Women at High Risk for HIV/AIDS CSAT RFA: TI-13-011 | 8,000 | 1 | 8,000 | 0.13 | 1,040
Targeted Capacity Expansion Program: Substance Abuse Treatment for Racial/Ethnic Minority Populations at High-Risk for HIV/AIDS CSAT RFA: TI-12-007 | 10,400 | 1 | 10,400 | 0.13 | 1,352
Minority Serving Intuitions (MSI) Partnerships with Community-Based Organizations (CBO) (MSI CBO). FY 2013 CSAP | 4,000 | 1 | 4,000 | 0.13 | 520
Minority Serving Intuitions (MSI) Partnerships with Community-Based Organizations (CBO) (MSI CBO). FY 2014 CSAP | 3,500 | 1 | 3,500 | 0.13 | 455
Minority Serving Intuitions (MSI) Partnerships with Community-Based Organizations (CBO) (MSI CBO). FY 2015 CSAP | 5,000 | 1 | 5,000 | 0.13 | 650
Capacity Building Initiative for Substance Abuse and HIV Prevention Services for At-Risk Racial/Ethnic Minority Youth and Young Adults (HIV CBI) FY 2015 CSAP | 6,000 | 1 | 6,000 | 0.13 | 780
Annual Total | 46,900 |  | 46,900 |  | 6,097

Send comments to Summer King, SAMHSA Reports Clearance Officer, Room 2-1057, One Choke Cherry Road, Rockville, MD 20857 or email her a copy at summer.king@samhsa.hhs.gov. Written comments should be received by September 21, 2015.

Summer King,
Statistician.

[FR Doc. 2015-18039 Filed 7-22-15; 8:45 am]

BILLING CODE 4162-20-P